DEPARTMENT OF HEALTH AND HUMAN SERVICES

Announcement of Availability of Funds for a Cooperative Agreement To Provide Basic Medical Education Supportive of Maternal-Child Health at Kabul Medical University (KMU) and Clinical Training in Obstetrics and Gynecology to Resident Physicians and Refresher Training to Attending Physicians at the Rabia Balkhi Women's Hospital; Cancellation

AGENCY: Department of Health and Human Services, Office of the Secretary.

ACTION: Notice; cancellation.

SUMMARY: The Department of Health and Human Services published a document in the Federal Register of August 16, 2007, Vol. 72, No. 158, pages 46073 through 46082. The notice announced the sole source award of funds to provide Basic Medical Education Supportive of Maternal-Child Health at Kabul Medical University (KMU) and Clinical Training in Obstetrics and Gynecology to Resident Physicians and Refresher Training to Attending Physicians at the Rabia Balkhi Women's Hospital. This award is being withdrawn.

FOR FURTHER INFORMATION CONTACT: Christopher J. Hickey, Ph.D., Acting Director, Office of Asia and the Pacific, Office of Global Health Affairs, U.S. Department of Health and Human Services.

SUPPLEMENTARY INFORMATION: The award is cancelled at this time to utilize recent and planned technical assessments by HHS experts to guide subsequent HHS action.

Dated: September 17, 2007.
Mary Lou Valdez,
Deputy Director, Office of Global Health Affairs, U.S. Department of Health and Human Services.

[FR Doc. E7-18756 Filed 9-21-07; 8:45 am]

BILLING CODE 4150-38-P